DEPARTMENT OF DEFENSE

Office of the Secretary

[Transmittal Nos. 13-02]

36(b)(1) Arms Sales Notification

AGENCY: Defense Security Cooperation Agency, Department of Defense

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives,

Transmittals 13-02 with attached Transmittal and Policy Justification.

Dated: August 2, 2013.
Aaron Siegel,
Alternate OSD Federal Register Liaison Officer, Department of Defense.

BILLING CODE 5001-06-P

BILLING CODE 5001-06-C

Transmittal No. 13-02

Notice of Proposed Issuance of Letter of Offer Pursuant to Section 36(b)(1) of the Arms Export Control Act, as amended

(i) Prospective Purchaser: Iraq

(ii) Total Estimated Value:

Major Defense Equipment * | $ 0
Other | $ 750 million
TOTAL | $ 750 million

* as defined in Section 47(6) of the Arms Export Control Act.

(iii) Description and Quantity or Quantities of Articles or Services under Consideration for Purchase: provide for a five year follow-on maintenance support for the M88A1 Recovery Vehicle, M88A2 Hercules, M113 Family of Vehicles, M109A5 Howitzers, M198 Howitzers, M1070 Heavy Equipment Trailer and Truck (HETT), M977 Heavy Expanded Mobility Tactical Truck (HEMTT), High Mobility Multipurpose Wheeled Vehicle (HMMWV), and the Tactical Floating River Bridge System (TFRBS) including, spare and repair parts, support equipment, publications and technical data, personnel training and training equipment, site surveys, Quality Assurance Teams, U.S. Government and contractor technical assistance, and other related elements of program and logistics support.

(iv) Military Department: U.S. Army (UFW)

(v) Prior Related Cases, if any: None

(vi) Sales Commission, Fee, etc., Paid, Offered, or Agreed to be Paid: None

(vii) Sensitivity of Technology Contained in the Defense Article or Defense Services Proposed to be Sold: None

(viii) Date Report Delivered to Congress: 25 July 2013

POLICY JUSTIFICATION

Iraq—Multi-Platform Maintenance Support, On-The-Job Maintenance Training and Maintenance Advice

The Government of Iraq has requested a possible sale to provide for a five year follow-on maintenance support for the M88A1 Recovery Vehicle, M88A2 Hercules, M113 Family of Vehicles, M109A5 Howitzers, M198 Howitzers, M1070 Heavy Equipment Trailer and Truck (HETT), M977 Heavy Expanded Mobility Tactical Truck (HEMTT), High Mobility Multipurpose Wheeled Vehicle (HMMWV), and the Tactical Floating River Bridge System (TFRBS) Including, spare and repair parts, support equipment, publications and technical data, personnel training and training equipment, site surveys, Quality Assurance Teams, U.S. Government and contractor technical assistance, and other related elements of program and logistics support. The estimated cost is $750 million.

This proposed sale will contribute to the foreign policy and national security of the United States by helping to improve the security of a strategic partner. This proposed sale directly supports the Iraqi government and serves the interests of the Iraqi people and the United States.

Helping Iraq maintain, sustain, and effectively utilize the equipment it has purchased or received from the United States over the past decade is a U.S. priority. This proposed sale is essential to provide Iraq with the support, spares, services, and equipment necessary to continue its effective use of its ground-based vehicle fleet.

The proposed sale of this equipment and support will not alter the basic military balance in the region.

The principal contractor involved in this program is unknown at this time. There are no known offset agreements proposed in connection with this potential sale.

Implementation of this proposed sale will require multiple U.S. Government or contractor representatives to travel to Iraq over period of (5) years to establish maintenance support, on-the-job (OJT) maintenance training and maintenance advice for program and technical support and training.

There will be no adverse impact on United States defense readiness as a result of this proposed sale.

[FR Doc. 2013-19134 Filed 8-7-13; 8:45 am]

BILLING CODE 5001-06-P